OFFICE OF THE UNITED STATES TRADE REPRESENTATIVE

Trade Policy Staff Committee: Request for Public Comments on the Preliminary Draft Consolidated Texts of the Free Trade Area of the Americas (FTAA) Agreement and the FTAA Technical Committee on Institutional Issues

AGENCY: Office of the United States Trade Representative.

ACTION: Notice and request for comments.

SUMMARY: The Office of the United States Trade Representative is providing notice that the preliminary draft consolidated text of the Free Trade Area of the Americas Agreement (FTAA) has been publicly released and posted on the FTAA website at www.ftaa-alca.org. The text is available in the four official languages of the FTAA: English, Spanish, French, and Portuguese. The Trade Policy Staff Committee (TPSC) is requesting written comment from the public on the FTAA preliminary draft consolidated text, as well as on the newly established FTAA Technical Committee on Institutional Issues.

DATES: Public comments should be received by 12 Noon, Wednesday, August 22, 2001.

ADDRESSES: Public comments (original plus 20 copies) should be submitted to Gloria Blue, Executive Secretary, Trade Policy Staff Committee, Office of the U.S. Trade Representative, 1724 F St., NW., Fifth Floor, Washington, DC 20508, Attention: Free Trade Area of the Americas Draft Text Release.

FOR FURTHER INFORMATION CONTACT: For procedural questions concerning public comments, contact Gloria Blue, Executive Secretary, Trade Policy Staff Committee, Office of the United States Trade Representative at (202) 395-3475. All other questions concerning the FTAA negotiations should be addressed to the agency's Office of Western Hemisphere Affairs, FTAA Office at (202) 395-5190. The FTAA preliminary draft consolidated text is now available in four languages, through a link at USTR's homepage to the official FTAA website (www.ftaa-alca.org) which also contains general information regarding the FTAA process, including official documents.

SUPPLEMENTARY INFORMATION:

1. Background

A. Text Release

Western Hemisphere Trade Ministers decided at the Buenos Aires Ministerial meeting on April 7, 2001 to make public the FTAA preliminary draft consolidated text. That decision was endorsed by the hemisphere's leaders at the Quebec Summit of the Americas on April 20-22, 2001. The Ministers' decision to publish the text necessitated the translation of the preliminary draft texts produced by the nine Negotiating Groups (market access; agriculture; services; intellectual property rights; investment; government procurement; competition policy; dispute settlement; and subsidies, antidumping and countervailing duties) into the four official languages of the FTAA: English, Spanish, French, and Portuguese. The text is now available on the official FTAA website in all four languages. The preliminary draft consolidated text contains many brackets, indicating that the draft text enclosed by such brackets has not been agreed to by all FTAA members. Overall U.S. Government positions on the substantive areas covered by the FTAA negotiations can be found on the USTR website: http://www.ustr.gov/regions/whemisphere/ftaa.shtml

B. Technical Committee on Institutional Issues

At the Buenos Aires Ministerial, FTAA countries created the Technical Committee on Institutional Issues, known as the “TCI”. The TCI will immediately begin the process of developing the overall structure of the FTAA Agreement, including (1) drafting the general provisions of the Agreement, including but not limited to the purposes and objectives of the Agreement, the preamble, the scope and coverage of the obligations, general exceptions, the relationship between the FTAA Agreement and the WTO Agreements, and the relationship between the FTAA Agreement and other regional integration agreements, and (2) making recommendations on institutions which might be required to implement the Agreement, including the human and financial resource implications for any institutional proposals.

2. Public Comments

The TPSC previously has requested public comments on several FTAA issues, including: general US positions and objectives in the FTAA, see 63 FR 128 (July 6, 1998), and 64 FR 248 (December 28, 1999); specific rules of origin in the FTAA, see 66 FR 87 (May 4, 2001); scope of the environmental review for the FTAA pursuant to Executive Order 13141, see 65 FR 233 (December 4, 2000); identification of private sector experts on electronic commerce for the Joint Committee of Experts on Electronic Commerce, see 65 FR 40 (February 29, 2000), 65 FR 150 (August 3, 2000), 64 FR 94 (May 17, 1999), and 63 FR 151 (August 6, 1998); and market access and other issues under the FTAA, see 64 FR 71 (April 14, 1999). The TPSC also asked for comments on the operation of the FTAA Committee of Government Representatives on the Participation of Civil Society, see 63 FR 145 (July 29, 1998); and the TPSC provided notice in 65 FR 121 (June 22, 2000) that the FTAA Committee of Government Representatives on the Participation of Civil Society had issued a request for public comments on trade matters related to the FTAA process.

Written Comments

Written comments, with as much specificity as possible, are invited on:

(a) Any aspect of the FTAA preliminary draft consolidated text; and

(b) The newly established FTAA Technical Committee on Institutional Issues.

Persons submitting written comments should provide the original plus twenty (20) typed copies to Gloria Blue, Executive Secretary, Trade Policy Staff Committee, Office of the U.S. Trade Representative, 1724 F St., N.W., Fifth Floor, Washington, D.C. 20508, (202) 395-3475, no later than 12 Noon, August 22, 2001. If possible, comments should be submitted before this date.

Comments should state clearly the position taken and should describe with particularity the evidence supporting that position. Written comments submitted in connection with this request, except for information granted “business confidential” status pursuant to 15 CFR 2003.6, will be available for public inspection in the USTR Reading Room (Room Three) at the address noted above.

Business confidential information will be subject to the requirements of 15 CFR 2003.6. Any business confidential material must be clearly marked as such on the cover letter or page and each succeeding page, and must be accompanied by a nonconfidential summary thereof. If the submission contains business confidential information, twenty copies of a public version that does not contain confidential information must be submitted. A justification as to why the information contained in the submission should be treated confidentially must be included in the submission. In addition, any submissions containing business confidential information must be clearly marked “Confidential” at the top and bottom of the cover page (or letter) and each succeeding page of the submission. The version that does not contain confidential information should also be clearly marked, at the top and bottom of each page, “public version” or “non-confidential.”

Nonconfidential submissions will be available for public inspection at the USTR Reading Room in the annex of the Office of the USTR, 1724 F St., N.W., Room Three, Washington, D.C. An appointment to review the file may be made by calling Brenda Webb at (202) 395-6186. The Reading Room is open to the public from 10 a.m. to 12 noon and from 1 p.m. to 4 p.m., Monday through Friday.

To be assured of consideration in this round of negotiations, comments should be submitted by no later than 12 Noon on Wednesday, August 22, 2001.

Carmen Suro-Bredie,
Chair, Trade Policy Staff Committee.

[FR Doc. 01-17435 Filed 7-11-01; 8:45 am]

BILLING CODE 3190-01-P